DEPARTMENT OF COMMERCE

International Trade Administration

[A-549-813]

Canned Pineapple Fruit From Thailand: Final Results of Antidumping Duty Administrative Review

AGENCY: Import Administration, International Trade Administration, Department of Commerce.

SUMMARY: On August 6, 2008, the Department of Commerce (the Department) published the preliminary results of its administrative review of the antidumping duty order on canned pineapple fruit (CPF) from Thailand. See Canned Pineapple Fruit from Thailand: Preliminary Results of Antidumping Duty Administrative Review, 73 FR 45695 (August 6, 2008) (Preliminary Results). This review covers one producer/exporter of the subject merchandise to the United States, Vita Food Factory (1989) Co., Ltd. (Vita). The period of review (POR) is July 1, 2006 through June 30, 2007. Subsequent to the Preliminary Results, we provided parties with an opportunity to comment. No parties submitted any comments. Therefore, the final results do not differ from those presented in the Preliminary Results. The final weighted-average dumping margin for Vita is listed below in the section entitled “Final Results of Review.”

DATES: Effective Date: December 8, 2008.

FOR FURTHER INFORMATION CONTACT: Paul Matino or Douglas Kirby, AD/CVD Operations, Office 6, Import Administration, International Trade Administration, U.S. Department of Commerce, 14th Street and Constitution Avenue, NW., Washington, DC 20230; telephone: (202) 482-4146 or (202) 482-3782.

Scope of the Order

The product covered by this order is canned pineapple fruit defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, the written description of the scope is dispositive. There have been no scope rulings for the subject order.

Period of Review

This review covers the period July 1, 2006 through June 30, 2007.

Final Results of Review

Following the preliminary results of this review, we discovered an error in the calculation of U.S. price related to domestic inland freight incurred on U.S. sales. We have corrected this error for these final results. See Antidumping Duty Administrative Review of Canned Pineapple Fruit from Thailand: Changes Since the Preliminary Results, dated concurrently with this notice. Accordingly, we determine that the following weighted-average margin percentage exists for the period July 1, 2006, through June 30, 2007:

Manufacturer/exporter | Margin
Vita Food Factory (1989) Co., Ltd. | 3.02%

Assessment

The Department shall determine, and U.S. Customs and Border Protection (CBP) shall assess, antidumping duties on all appropriate entries, pursuant to section 771(a)(1)(B) of the Tariff Act of 1930 (the Act), and 19 CFR 351.212(b). We will instruct CBP to assess antidumping duties on all appropriate entries covered by this review if the importer-specific assessment rate calculated in the final results of this review is above de minimis (i.e., at or above 0.50 percent). Pursuant to 19 CFR 351.106(c)(2), we will instruct CBP to liquidate without regard to antidumping duties any entries for which the assessment rate is de minimis (i.e., less than 0.50 percent). The Department intends to issue assessment instructions to CBP 15 days after the date of publication of these final results of review.

Cash Deposit Requirements

Pursuant to section 751(d)(2) of the Act and 19 CFR 351.222(i)(2)(i), the Department revoked this order effective October 31, 2007. See Canned Pineapple Fruit from Thailand: Notice of Final Results of Changed Circumstances Review of the Antidumping Duty Order and Revocation of Antidumping Duty Order, 73 FR 21311 (April 21, 2008). The Department notified CBP to discontinue suspension of liquidation on entries of the subject merchandise entered or withdrawn from warehouse on or after October 31, 2007, the effective date of revocation of the antidumping duty order. Therefore, cash deposits of estimated antidumping duties are no longer required.

Certificate on Reimbursement

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305(a)(3) of the Department's regulations. Timely written notification of the return or destruction of APO materials or conversion to judicial protective order is hereby requested. Failure to comply with the regulations and the terms of an APO is a sanctionable violation.

We are issuing and publishing these final results and this notice in accordance with sections 51(a)(1) and 777(i)(1) of the Act.

Dated: December 1, 2008.
David M. Spooner,
Assistant Secretary for Import Administration.

[FR Doc. E8-28972 Filed 12-5-08; 8:45 am]

BILLING CODE 3510-DS-P